NATIONAL AERONAUTICS AND SPACE ADMINISTRATION

[Notice (03-060)]

Government-Owned Inventions, Available for Licensing

ACTION: Notice of availability of inventions for licensing.

SUMMARY: The invention listed below is assigned to the National Aeronautics and Space Administration, has been filed in the United States Patent and Trademark Office, and is available for licensing.

DATES: June 3, 2003.

FOR FURTHER INFORMATION CONTACT: Rob Padilla, Patent Counsel, Ames Research Center, Mail Code 202A-4, Moffett Field, CA 94035-1000; telephone (650) 604-5104, fax (650) 604-2767.

NASA Case No. ARC-15042-1: Carbon Nanotube Interconnect.

Dated: May 28, 2003.
Robert M. Stephens,
Deputy General Counsel.

[FR Doc. 03-13911 Filed 6-2-03; 8:45 am]

BILLING CODE 7590-01-P